FEDERAL COMMUNICATIONS COMMISSION

47 CFR Part 20

[WT Docket No. 10-4; FCC 14-138]

The Commission's Rules To Improve Wireless Coverage Through the Use of Signal Boosters

AGENCY: Federal Communications Commission

ACTION: Further notice of proposed rulemaking.

SUMMARY: In the Further Notice of Proposed Rulemaking, the Commission seeks comment on whether to retain the “personal use” restriction for Provider-Specific Consumer Signal Boosters.

DATES: Submit comments on or before December 29, 2014 and reply comments on or before January 20, 2015.

ADDRESSES: You may submit comments, identified by WT Docket No. 10-4 or FCC 14-138, by any of the following methods:

Federal Communications Commission's Web site: http://fjallfoss.fcc.gov/ecfs2/. Follow the instructions for submitting comments.

Mail: FCC Headquarters, 445 12th St. SW., Washington, DC 20554.

People with Disabilities: Contact the FCC to request reasonable accommodations (accessible format documents, sign language interpreters, CART, etc.) by email: FCC504@fcc.gov or phone: (202) 418-0530 or TTY: (202) 418-0432.

For detailed instructions for submitting comments and additional information on the rulemaking process, see the SUPPLEMENTARY INFORMATION section of this document.

FOR FURTHER INFORMATION CONTACT: Amanda Huetinck of the Mobility Division, Wireless Telecommunications Bureau, at (202) 418-7090 or Amanda.Huetinck@fcc.gov.

SUPPLEMENTARY INFORMATION: This is the Commission's Further Notice of Proposed Rulemaking, in WT Docket No. 10-4, FCC 14-138, adopted September 19, 2014, and released September 23, 2014. The Order on Reconsideration that was adopted concurrently with the Further Notice of Proposed Rulemaking is published elsewhere in this issue of the Federal Register.

The full text of that document is available for inspection and copying during normal business hours in the FCC Reference Center, 445 12th Street SW., Room CY-A257, Washington, DC 20554, or by downloading the text from the Commission's Web site at http://www.fcc.gov/document/signal-boosters-order-reconsideration-and-fnprm. The complete text also may be purchased from the Commission's duplicating contractor, Best Copy and Printing, Inc., Portals II, 445 12th Street SW., Suite CY-B402, Washington, DC 20554.

Pursuant to §§ 1.415 and 1.419 of the Commission's rules, 47 CFR 1.415, 1.419, interested parties may file comments and reply comments on or before the dates indicated on the first page of this document. Comments may be filed using the Commission's Electronic Comment Filing System (ECFS). See Electronic Filing of Documents in Rulemaking Proceedings, 63 FR 24121 (1998).

Electronic Filers: Comments may be filed electronically using the Internet by accessing the ECFS: http://fjallfoss.fcc.gov/ecfs2/.

Paper Filers: Parties who choose to file by paper must file an original and one copy of each filing. If more than one docket or rulemaking number appears in the caption of this proceeding, filers must submit two additional copies for each additional docket or rulemaking number.

Filings can be sent by hand or messenger delivery, by commercial overnight courier, or by first-class or overnight U.S. Postal Service mail. All filings must be addressed to the Commission's Secretary, Office of the Secretary, Federal Communications Commission.

All hand-delivered or messenger-delivered paper filings for the Commission's Secretary must be delivered to FCC Headquarters at 445 12th St. SW., Room TW-A325, Washington, DC 20554. The filing hours are 8:00 a.m. to 7:00 p.m. All hand deliveries must be held together with rubber bands or fasteners. Any envelopes and boxes must be disposed of before entering the building.

Commercial overnight mail (other than U.S. Postal Service Express Mail and Priority Mail) must be sent to 9300 East Hampton Drive, Capitol Heights, MD 20743.

U.S. Postal Service first-class, Express, and Priority mail must be addressed to 445 12th Street, SW., Washington DC 20554.

People with Disabilities: To request materials in accessible formats for people with disabilities (braille, large print, electronic files, audio format), send an email to fcc504@fcc.gov or call the Consumer & Governmental Affairs Bureau at 202-418-0530 (voice), 202-418-0432 (tty).

Synopsis

I. Introduction and Background

1. In this Further Notice of Proposed Rulemaking, we seek comment on whether to retain the “personal use” restriction for Provider-Specific Consumer Signal Boosters.

2. The Commission released the Signal Boosters NPRM on April 6, 2011, whereby it proposed rules to facilitate the development and deployment of well-designed signal boosters. On February 20, 2013, in the Signal Boosters Report and Order (Report and Order), the Commission adopted the new regulatory framework to allow consumers to realize the benefits of using signal boosters while preventing, controlling, and, if necessary, resolving interference to wireless networks. In the Report and Order, the Commission adopted new technical, operational, and registration requirements for signal boosters. The new rules created two classes of signal boosters—Consumer and Industrial—with distinct regulatory requirements for each.

II. Further Notice of Proposed Rulemaking

3. The underlying purpose of the Report and Order was to broaden the availability of signal boosters while ensuring that these boosters do not adversely affect wireless networks. In the concurrently adopted Order on Reconsideration, we adopted rule amendments that advance this goal by making Provider-Specific Consumer Signal Booster safer to wireless networks. Consistent with that purpose, we now consider whether to further expand consumer access to signal boosters. We therefore seek comment on whether to remove the “personal use” restriction on the operation of Provider-Specific Consumer Signal Boosters.

4. To facilitate broader access to signal boosters, in the Report and Order, we developed a streamlined process for authorizing Consumer Signal Boosters by requiring consumers to obtain the consent of their wireless carrier and register their Consumer Signal Booster with that carrier. We found that this licensing framework would best facilitate the rapid introduction of Consumer Signal Boosters while enabling wireless operators to maintain sufficient control of their networks. By incorporating the restriction that Consumer Signal Boosters may be operated only for “personal use,” we also made it possible for consumers to seek consent from and register their devices only with the wireless carrier to which they subscribe. This restriction is particularly relevant for Wideband Consumer Signal Boosters, as they are capable of operating on spectrum licensed to multiple wireless providers.

5. With Provider-Specific Consumer Signal Boosters, however, we question whether this “personal use” restriction remains necessary, as the device operates only on a single provider's spectrum. Because the consumer will have obtained consent from and registered with that single carrier, any transmissions from the Signal Booster are therefore authorized.

6. We therefore ask whether we should eliminate the “personal use” restriction for Provider-Specific Consumer Signal Boosters (but not for Wideband Consumer Signal Boosters). Would removing this restriction for Provider-Specific Consumer Signal Boosters be in the public interest? What are the costs and benefits of removing the restriction? What are the costs and benefits of maintaining the restriction?

III. Procedural Matters

A. Paperwork Reduction Act

7. The Further Notice of Proposed Rulemaking does not contain new or modified information collection requirements subject to the Paperwork Reduction Act of 1995 (PRA). Therefore the Further Notice of Proposed Rulemaking does not contain any new or modified information collection burdens for small businesses with fewer than 25 employees, pursuant to the Small Business Paperwork Relief Act of 2002.

B. Regulatory Flexibility Analysis

8. The Regulatory Flexibility Act (RFA) requires that an agency prepare a regulatory flexibility analysis for notice and comment rulemakings, unless the agency certifies that “the rule will not, if promulgated, have a significant economic impact on a substantial number of small entities.”

9. We hereby certify that the Further Notice of Proposed Rulemaking will not have a significant economic impact on a substantial number of small entities. The Commission will send a copy of the Further Notice of Proposed Rulemaking, including this certification, to the Chief Counsel for Advocacy of the Small Business Administration.

C. Ex Parte Presentations

10. Permit-But-Disclose. We will continue to treat this proceeding as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule § 1.1206(b). In proceedings governed by rule § 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

IV. Ordering Clauses

11. Accordingly, it is ordered that, pursuant to the authority of sections 1, 4(i), 7, 10, 201, 202, 208, 214, 301, 302, 303, 308, 309(j), 310, and 710 of the Communications Act of 1934, as amended, 47 U.S.C. 151, 154(i), 157, 160, 201, 202, 208, 214, 301, 302a, 303, 308, 309(j), 310, and 610, and §§ 1.412, 1.425, and 1.429 of the Commission's rules, 47 CFR 1.412, 1.425, 1.429, the Further Notice of Proposed Rulemaking is hereby adopted.

12. It is further ordered that the Commission shall send a copy of the Further Notice of Proposed Rulemaking to Congress and the Government Accountability Office pursuant to the Congressional Review Act.

13. It is further ordered that the Commission's Consumer and Governmental Affairs Bureau, Reference Information Center, shall send a copy of the Further Notice of Proposed Rulemaking to the Chief Counsel for Advocacy of the Small Business Administration.

Federal Communications Commission.
Marlene H. Dortch,
Secretary.

[FR Doc. 2014-26062 Filed 11-26-14; 8:45 am]

BILLING CODE 6712-01-P